DEPARTMENT OF LABOR

Secretary's Order 02-2019—Chief Data Officer and DOL Data Board

I. Purpose. To establish a Chief Data Officer (CDO); to formalize the Department of Labor (DOL) Data Board (Data Board); to create a data governance framework for the Department; and to create strategic value from data collected and housed throughout the Department.

II. Authorities and Directives Affected

A. Authorities.

1. This Secretary's Order (the Order) is issued pursuant to the authority granted under 29 U.S.C. 551 et seq.

2. A congressional statute obligates the Secretary to designate a Chief Data Officer. See Foundations for Evidence-Based Policymaking Act of 2018, Public Law 115-435, 132 Stat 5529.

B. Directives Affected. This Order does not affect the authorities and responsibilities assigned by any other Secretary's Order.

III. Background. Evidence-based policymaking has necessitated a modern data infrastructure and strengthened data capacity. Across the agencies within the Department of Labor, data—which are essential to setting policy and delivering efficiently and effectively on the Department's mission of serving America's workforce—are collected every day. However, these data may not be leveraged, housed, formatted, or made public in ways that best serve the needs of DOL or its stakeholders. There needs to be a more central focus on the quality, consistency, and availability of data to inform and influence how DOL carries out its mission.

IV. Data Board

A. Purpose of the Data Board

1. The Data Board is a forum for DOL to work across organizational lines to collaborate and coordinate effectively on data strategy, management, and policy issues, as well as DOL data governance, stewardship, architecture, and utilization.

B. Responsibilities

1. The Data Board is charged with providing recommendations to the Secretary, the Deputy Secretary, and Agency Heads on the creation, implementation, and oversight of a data governance model that establishes authority, roles and responsibilities, management, and decision-making parameters related to the data created, collected, managed, or otherwise controlled by the Department.

2. The Data Board will develop a comprehensive initial DOL Data Strategy (the Initial Data Strategy). The Data Board will submit an Initial Data Strategy to the Secretary. Once the Secretary adopts an Initial Data Strategy, the Deputy Secretary will implement the Initial Data Strategy through appropriate memoranda. The Data Board will submit subsequent DOL Data Strategies (Subsequent Data Strategies) to the Secretary as appropriate. Once the Secretary adopts a Subsequent Data Strategy, the Deputy Secretary will implement the Subsequent Data Strategy through appropriate memoranda.

3. The Data Board will serve as the principal entity acting on the Secretary's behalf with respect to data governance issues. It will establish, coordinate, and manage policy, processes, and standards for the management of DOL data. The Data Board shall oversee Department-level data sharing agreements with external organizations and across DOL entities. The Data Board shall raise awareness and promote data management best practices across DOL entities.

4. The Data Board will coordinate with the DOL Chief Information Officer (CIO) in the development of modern solutions for managing, analyzing, protecting, disseminating, and generating data. The Data Board will use the DOL enterprise data analytics platform and other enterprise applications when assessing or recommending changes that impact infrastructure, platforms, tools, cybersecurity, hardware, software, and/or standardization, and/or centralization initiatives.

5. The Data Board should convene at least once each month.

6. The Deputy Secretary will issue written guidance, as necessary, to implement this Order.

7. The Data Board will receive assignments from the Secretary, Deputy Secretary, and Agency Heads as appropriate.

8. The Solicitor of Labor is responsible for providing legal advice to DOL on all matters arising in the implementation and administration of this Order.

C. Membership

1. The CDO is a member—and the Chair—of the Data Board.

2. The CIO is a member—and the Vice-Chair—of the Data Board.

3. The Agency Heads of the following agencies should select a Data Board Designee—who is at least a GS-12 or its equivalent—to serve on the Data Board:

a. Bureau of International Labor Affairs;

b. Bureau of Labor Statistics;

c. Employee Benefits Security Administration;

d. Employment & Training Administration;

e. Mine Safety & Health Administration;

f. Occupational Safety & Health Administration;

g. Office of Congressional & Intergovernmental Affairs;

h. Office of Disability Employment Policy;

i. Office of Federal Contract Compliance Programs;

j. Office of Labor-Management Standards;

k. Office of Public Affairs;

l. Office of the Assistant Secretary for Administration & Management;

m. Office of the Assistant Secretary for Policy;

n. Office of the Chief Financial Officer;

o. Office of the Chief Information Officer;

p. Office of the Solicitor;

q. Office of Workers' Compensation Programs;

r. Veterans' Employment & Training Service;

s. Wage & Hour Division; and

t. Women's Bureau.

V. Chief Data Officer

A. On January 14, 2019, President Trump signed the Foundations for Evidence-Based Policymaking Act of 2018 into law.¹ That statute directs the head of each agency to “designate a nonpolitical appointee employee in the agency as the Chief Data Officer of the agency.” ² This Order establishes the position of Chief Data Officer. Organizationally, the CDO will be in the Office of the Assistant Secretary for Policy. The CDO will serve as the Chair of the Data Board.

¹ See Bill Announcement, The White House (Jan. 14, 2019) https://www.whitehouse.gov/briefings-statements/bill-announcement-18/.

² See Foundations for Evidence-Based Policymaking Act of 2018, Public Law 115-435, 132 Stat 5529.

B. Reports

1. At the beginning of the first quarter of the fiscal year and at the beginning of the third quarter of the fiscal year, the CDO will deliver a report to the Secretary and the Deputy Secretary on the state of the data at DOL. The report will describe DOL's data-related achievements and challenges in the preceding six-month period. The report will also describe what steps DOL will take going forward to improve its use of data.

2. DOL's CDO shall submit to the Committee on Homeland Security and Governmental Affairs of the Senate and the Committee on Oversight and Government Reform of the House of Representatives an annual report on DOL's compliance with the requirements of subchapter I of chapter 35 of title 44 of the United States Code, including information on each requirement that the agency could not carry out and, if applicable, what the agency needs to carry out such requirement.

C. The CDO will brief the Secretary, Deputy Secretary, and Agency Heads on data-related matters as appropriate.

D. The CDO shall be designated based on demonstrated training and experience in data management, governance (including creation, application, and maintenance of data standards), collection, analysis, protection, use, and dissemination, including with respect to any statistical and related techniques to protect and de-identify confidential data.

E. Functions of the CDO. The CDO shall:

1. Be responsible for lifecycle data management;

2. coordinate with any official in DOL responsible for using, protecting, disseminating, and generating data to ensure that the data needs of DOL are met;

3. manage data assets of DOL, including the standardization of data format, sharing of data assets, and publication of data assets in accordance with applicable law;

4. in carrying out the requirements under paragraphs (3) and (5), consult with DOL's CIO and any statistical official of DOL (as designated under section 314 of title 5 of the United States Code);

5. carry out the requirements of the agency under subsections (b) through (d), (f), and (i) of section 3506 of title 44 of the United States Code, section 3507 of title 44 of the United States Code, and section 3511 of title 44 of the United States Code;

6. ensure that, to the extent practicable, agency data conforms with data management best practices;

7. engage agency employees, the public, and contractors in using public data assets and encourage collaborative approaches on improving data use;

8. support DOL's Performance Improvement Officer in identifying and using data to carry out the functions described in section 1124(a)(2) of title 31 of the United States Code;

9. support DOL's Evaluation Officer in obtaining data to carry out the functions described in section 313(d) of title 5 of the United States Code;

10. review the impact of DOL's infrastructure on data asset accessibility and coordinate with DOL's CIO to improve such infrastructure to reduce barriers that inhibit data asset accessibility;

11. coordinate with DOL's CIO to develop modern solutions for managing, protecting, disseminating, and generating data. The CDO will use the DOL enterprise data analytics platform and other enterprise applications when assessing or recommending changes that impact infrastructure, platforms, tools, cybersecurity, hardware, software, and/or standardization, and/or centralization initiatives;

12. ensure that, to the extent practicable, DOL maximizes its use of data, including for the production of evidence (as defined in section 3561 of title 44 of the United States Code), cybersecurity, and the improvement of DOL operations;

13. identify points of contact for roles and responsibilities related to open data use and implementation (as required by the Director of the Office of Management and Budget);

14. serve as DOL's liaison to other agencies and the Office of Management and Budget on the best way to use existing DOL data for statistical purposes (as defined in section 3561 of title 44 of the United States Code); and

15. comply with any regulation and guidance issued under subchapter III of Chapter 35 of title 44 of the United States Code, including the acquisition and maintenance of any required certification and training.

F. Delegation of CDO Responsibilities

1. In General—To the extent necessary to comply with statistical laws, DOL's CDO shall delegate any responsibility under subsection (E) to the head of a statistical agency or unit (as defined in section 3561 of title 44 of the United States Code) within DOL.

2. Consultation—To the extent permissible under law, the individual to whom a responsibility has been delegated under paragraph (V)(F)(1) shall consult with DOL's CDO in carrying out such responsibility.

3. Deference—DOL's CDO shall defer to the individual to whom a responsibility has been delegated under paragraph (V)(F)(1) regarding the necessary delegation of such responsibility with respect to any data acquired, maintained, or disseminated by DOL under applicable statistical law.

VI. Exceptions; Administrative Matters. The requirements of this Order are intended to be general in nature, and accordingly shall be construed and implemented consistent with more specific requirements of any statute, Executive Order, or other legal authority governing the collection, storage, and management of data. In the event of a conflict, the specific statute, Executive Order, or other legal authority shall govern. The requirements of this Order are in addition to internal administrative procedures regarding the collection, storage, and management of data.

VII. Redelegation of Authority. Except as otherwise provided by law, all of the authorities delegated in this Order may be redelegated to serve the purposes of this Order.

VIII. Effective Date. This Order is effective immediately.

Dated: March 12, 2019.
R. Alexander Acosta,
Secretary of Labor.

[FR Doc. 2019-05720 Filed 3-25-19; 8:45 am]

BILLING CODE 4510-04-P